DEPARTMENT OF HEALTH AND HUMAN SERVICES

Administration for Community Living

Agency Information Collection Activities; Proposed Collection; Comment Request; Senior Legal Helplines Operating Within Model Approaches to Statewide Legal Assistance Systems Demonstrations

AGENCY: Administration for Community Living, HHS.

ACTION: Notice.

SUMMARY: The Administration for Community Living (ACL) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on proposed information collection requirements relating to Senior Legal Helplines (SLHs) operating within Model Approaches to Statewide Legal Assistance Systems Demonstrations.

DATES: Submit written or electronic comments on the collection of information by October 6, 2014.

ADDRESSES: Submit electronic comments on the collection of information to: Omar.Valverde@acl.gov

Submit written comments on the collection of information to Administration on Aging, Washington, DC 20201, attention Omar Valverde.

FOR FURTHER INFORMATION CONTACT: Omar Valverde, Aging Services Program Specialist, Administration for Community Living, Administration on Aging, Washington, DC 20201, (202) 357-3514.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed collection of information set forth in this document.

With respect to the anticipated collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

Senior Legal Helplines (SLHs) funded by Title IV of the Older Americans, and operating as part of Model Approaches to Statewide Legal Assistance Systems (Model Approaches) demonstration

Grants play an important role within statewide legal service delivery systems and are designed to provide a limited scope of assistance on a wide range of legal issues such as consumer protection, housing, income security, healthcare financing, and elder abuse prevention. It is important to capture information that accurately illustrates the range and type of legal assistance being provided by the SLHs to older persons in the most social or economic need, without being overly burdensome to providers responsible for collecting the data. The anticipate data collected and reported by SLHs participating in ACL-funded Model Approaches projects will be comparable from one SLH to another and apply standard/uniform terminology consistently across Model Approaches projects. The consistent and uniform data will be used to illustrate the effectiveness of Model Approaches states in reaching key target populations under the OAA with much needed “priority” legal assistance through SLHs. The data collected will also inform and drive ongoing ACL policy related to increasing the number of states that have a SLH as a sustained, and permanent feature of integrated and cost effective legal service delivery systems targeted to those most in need. Anticipated data collection and reporting requirements would apply to SLHs operating as lead partners in 2014 Model Approaches Phase I and Phase II, with a total of 11 SLHs operational during the 3 year project period.

ACL estimates the burden of this collection of information as follows: 11 SLHs would be asked to respond annually pursuant to data collection tools that should require an average burden of 2.5 hours per SLH per year or a total 27.5 hours for all complying SLHs operating under Model Approaches projects. The proposed data collection tools may be found on the CERA Web site for review at: http://www.legalhotlines.org/uploads/1/6/9/1/16912868/reportingguidelinesforseniorlegalhelplines.pdf.

Dated: July 31, 2014.
Kathy Greenlee,
Administrator and Assistant Secretary for Aging.

[FR Doc. 2014-18463 Filed 8-4-14; 8:45 am]

BILLING CODE 4154-01-P